DEPARTMENT OF TRANSPORTATION

Maritime Administration

[Docket No. DOT-MARAD-2017-0167]

Request for Comments on the Renewal of a Previously Approved Information Collection: Request for Waiver of Service Obligation, Request for Deferment of Service Obligation, and Application for Review

AGENCY: Maritime Administration, Department of Transportation.

ACTION: Notice and request for comments.

SUMMARY: The Maritime Administration (MARAD) invites public comments on our intention to request the Office of Management and Budget (OMB) approval to renew an information collection. The information collection is for midshipmen or graduates of the United States Merchant Marine Academy (USMMA) or cadets or graduates of a State Maritime Academy (SMA) who received Student Incentive Payment (SIP) Program payments to determine if: (1) A waiver should be granted of all or a portion of the service obligation contract in cases where there would be undue hardship or impossibility of performance due to accident, illness or other justifiable reasons; (2) a deferment of all or a portion of the service obligation should be granted for the purpose of entering a marine or maritime-related graduate course of study; or (3) an original decision of items 1 or 2 should be overturned based on a student or graduate's appeal. Their service obligation is required by law. We are required to publish this notice in the Federal Register by the Paperwork Reduction Act of 1995.

DATES: Comments must be submitted on or before November 13, 2017.

ADDRESSES: You may submit comments [identified by Docket No. DOT-MARAD-2017-0167] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Danielle Bennett (202) 366-5469, Office of Maritime Workforce Development, U.S. Department of Transportation, 1200 New Jersey Avenue SE., Washington, DC 20590.

SUPPLEMENTARY INFORMATION:

Title: Request for Waiver of Service Obligation, Request for Deferment of Service Obligation, Application for Review.

OMB Control Number: 2133-0510.

Type of Request: Renewal of a Previously Approved Information Collection.

Abstract: The Information collection is essential for determining if a student or graduate of the USMMA or a SMA that participated in the Student Incentive Payment (SIP) Program has a valid circumstance preventing them from fulfilling the requirements of the service obligation contract signed at the time of their enrollment in USMMA or the SIP program. It also permits the Maritime Administration (MARAD) to determine if a graduate, who wishes to defer their service obligation to attend graduate school, is eligible to receive a deferment. Student or graduates who submit a waiver or deferral request have an opportunity to appeal MARAD's decision. This collection is essential for determining if the original decision for a waiver or deferral request should be overturned. Their service obligation is required by law.

Respondents: U.S. Merchant Marine Academy students and graduates, and subsidized students and graduates.

Affected Public: U.S. Merchant Marine Academy students and graduates, and subsidized students and graduates.

Estimated Number of Respondents: 11.

Estimated Number of Responses: 11.

Estimated Hours per Response: 30 minutes.

Annual Estimated Total Annual Burden Hours: 5.30.

Frequency of Response: Annually.

(Authority: The Paperwork Reduction Act of 1995; 44 U.S.C. Chapter 35, as amended; and 49 CFR 1.93.)

By Order of the Maritime Administrator.
Dated: September 6, 2017.
T. Mitchell Hudson, Jr.,
Secretary, Maritime Administration.

[FR Doc. 2017-19133 Filed 9-8-17; 8:45 am]

BILLING CODE 4910-81-P